DEPARTMENT OF LABOR

Employment and Training Administration

Comment Request for Information Collection for the National Agricultural Workers Survey, OMB Control No. 1205-0453; Extension With Revisions

AGENCY: Employment and Training Administration, Labor.

ACTION: Notice.

SUMMARY: The Department of Labor, as part of its continuing effort to reduce paperwork and respondent burden conducts a preclearance consultation program to provide the general public and federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the continued collection of data about hired farm workers via the National Agricultural Workers Survey. Office of Management and Budget authorization for the current questionnaire will expire on March 31, 2010.

A copy of the proposed information collection request (ICR) can be obtained by contacting the office listed below in the addressee section of this notice.

DATES: Written comments must be submitted to the office listed in the addressee's section below on or before January 29, 2010.

ADDRESSEE: Submit written comments to Mr. Daniel Carroll, Room N-5641, Employment and Training Administration, 200 Constitution Avenue, NW., Washington, DC 20210. Telephone number: 202-693-2795 (this is not a toll-free number). Fax: 202-693-2766. E-mail: carroll.daniel.j@dol.gov.

SUPPLEMENTARY INFORMATION:

I. Background

The Department of Labor has been continually surveying hired farm workers since 1988 via the National Agricultural Workers Survey (NAWS). The survey's primary focus is to describe the employment, demographic, and health characteristics of hired crop farm workers. It is the only national-level data source for this information.

The NAWS provides an understanding of the manpower resources available to U.S. agriculture, and both public and private service programs use the data for planning, implementing, and evaluating farm worker programs.

The NAWS samples hired crop farm workers in three cycles each year to capture the seasonality of agricultural employment. Workers are randomly sampled at their work sites. Depending on the information needs and resources of the various Federal agencies that use NAWS data, between 1,500 and 4,000 workers are interviewed each year.

The primary NAWS questionnaire routinely provides a standard set of information on the employment, demographic, and health characteristics of hired crop workers. When new information is required, Federal agencies add supplemental collection instruments to the NAWS.

Changes to the Primary Questionnaire

In fiscal years 2005 through 2009, the Environmental Protection Agency (EPA) added four questions to the primary instrument that were administered to all respondents who reported having mixed, loaded, or applied pesticides in the previous twelve months. The questions solicited: (1) The type of material(s) the respondent handled, (2) the last time each material was handled, (3) the crop the respondent was working on when last handling each material, and (4) the number of days the material was handled. These four questions have been removed from the questionnaire. The EPA will analyze the data and determine if the questions need to be revised and reinserted in the future.

II. Review Focus

The Department of Labor is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond, including through the use of appropriate automated, electronic, mechanical, or other technological collection techniques or other forms of information technology, e.g., permitting electronic submissions of responses.

III. Current Actions

Type of Review: Extension with Changes.

Title: National Agricultural Workers Survey.

OMB Number: 1205-0453.

Affected Public: Individuals, Farms.

Form(s): Primary Questionnaire; Injury Supplement.

Total Respondents: 2,003.

Frequency: Annual.

Total Responses: 2,003.

Average Time per Response: 48.7 minutes.

Estimated Total Burden Hours: 1,625.

Total Burden Cost for Respondents: $0.

Comments submitted in response to this comment request will be summarized and/or included in the request for Office of Management and Budget approval of the information collection request; they will also become a matter of public record.

Dated: November 17, 2009.
Jane Oates,
Assistant Secretary, Employment and Training Administration.

[FR Doc. E9-28447 Filed 11-27-09; 8:45 am]

BILLING CODE 4510-FN-P